DEPARTMENT OF LABOR

Employment and Training Administration

[TA-W-57,661]

B&K Acquisition Corporation, Inc., Murrysville, PA; Notice of Termination of Investigation

Pursuant to Section 221 of the Trade Act of 1974, as amended, an investigation was initiated on August 3, 2005, in response to a worker petition filed by the company on behalf of workers at B&K Acquisition Corporation, Inc., Murrysville, Pennsylvania.

The petitioner has requested that the petition be withdrawn. Consequently, the investigation has been terminated.

Signed at Washington, DC, this 30th day of August, 2005.
Elliott S. Kushner,
Certifying Officer, Division of Trade Adjustment Assistance.

[FR Doc. E5-5193 Filed 9-26-05; 8:45 am]

BILLING CODE 4510-30-P